DEPARTMENT OF LABOR

Occupational Safety and Health Administration

[Docket No. OSHA-2008-0005]

Request for Comments on Proposed Guidance on Workplace Stockpiling of Respirators and Facemasks for Pandemic Influenza

AGENCY: Occupational Safety and Health Administration (OSHA), Labor.

ACTION: Request for comments.

SUMMARY: The Department of Labor is inviting comments on its document entitled “Proposed Guidance on Workplace Stockpiling of Respirators and Facemasks for Pandemic Influenza” (Proposed Guidance). The Proposed Guidance is available on OSHA's Web page and through its publications office. Interested persons may submit written or electronic comments on the Proposed Guidance as discussed below.

DATES: Written Comments: You must submit your comments by the following dates:

Regular mail, hand-delivery, express delivery, messenger, or courier service: You must submit your comments (postmarked or sent) by July 8, 2008.

Facsimile and electronic transmission: You must submit your comments by July 8, 2008. OSHA is providing the public with 60 days to submit comments on the Proposed Guidance on Workplace Stockpiling of Respirators and Facemasks for Pandemic Influenza.

ADDRESSES:

I. Submitting Comments

You may submit comments and information in response to this document as a hard copy, fax transmission (facsimile), or electronically. Submitted materials must include and clearly identify your name, date, and Docket No. OSHA-2008-0005 (the docket number associated with the Proposed Guidance), so OSHA can place them in the appropriate docket and, if necessary, attach them to your prior submissions.

(1) Regular mail, hand-delivery, express delivery, messenger, or courier service: You must submit three copies of your comments and attachments to the OSHA Docket Office, Docket No. OSHA-2008-0005, U.S. Department of Labor, Room N-2625, 200 Constitution Avenue, NW., Washington, DC 20210, telephone (202) 693-2350 (OSHA's TTY number is (877) 889-5627). The OSHA Docket Office and the Department of Labor hours of operation are 8:15 a.m. to 4:45 p.m., ET.

Because of security-related procedures, the use of regular mail may cause a significant delay in the receipt of submissions. Please contact the OSHA Docket Office at: (202) 693-2350 (TTY (877) 899-5627) for information about security procedures concerning the delivery of materials by express delivery, hand delivery, and messenger service.

(2) Facsimile: If your comments, including any attachments, do not exceed 10 pages, you may fax them to the OSHA Docket Office at (202) 693-1648. You must include the docket number of this document, Docket No. OSHA-2008-0005, in your comments.

(3) Electronically: You may submit your comments and attachments electronically at: http://www.regulations.gov, which is the Federal e-Rulemaking Portal. Information on using the http://www.regulations.gov Web site to submit these materials, and to access the docket, is available at the Web site's “User Tips” link. You may supplement electronic submissions by uploading document attachments and files electronically. If, instead, you wish to mail additional materials in reference to an electronic or fax submission, you must submit three copies to the OSHA Docket Office. As discussed above, submitted materials must include and clearly identify your name, date, and Docket No. OSHA-2008-0005. Contact the OSHA Docket Office for assistance in using the Internet to locate docket submissions.

II. Obtaining Copies of the Proposed Guidance

You can download the Proposed Guidance from OSHA's Web site at http://www.osha.gov. A printed copy of the Proposed Guidance is available from the OSHA Office of Publications, Room N-3101, U.S. Department of Labor, 200 Constitution Avenue, NW., Washington, DC 20210, or by telephone at (800) 321-OSHA (6742). You may fax your request for a copy of the Proposed Guidance to (202) 693-2498.

FOR FURTHER INFORMATION CONTACT: Andrew Levinson, Acting Director, Office of Biological Hazards, OSHA Directorate of Standards and Guidance, Room N-3718, U.S. Department of Labor, 200 Constitution Avenue, NW., Washington, DC 20210, telephone (202) 693-1950.

SUPPLEMENTARY INFORMATION:

I. Internet Access to Comments

All comments and submissions will be available for inspection and copying at the OSHA Docket Office at the above address. Comments and submissions will be posted without change at http://www.regulations.gov. Therefore, OSHA cautions commenters about submitting personal information such as social security numbers, dates of birth, etc. Although all submissions are listed in the http://www.regulations.gov index, some information (e.g., copyrighted material) is not publicly available to read or download through http://www.regulations.gov. Contact the OSHA Docket Office at (202) 693-2350 (TTY (877) 899-5627) for information about materials not available through the OSHA Web site and for assistance in using the Web site to locate docket submissions.

Electronic copies of this Federal Register document are available at http://www.regulations.gov. This document, news releases and other relevant information, also are available at OSHA's Web page at http://www.osha.gov.

II. Background

An influenza pandemic could have a major effect on society and the global economy, including travel, trade, tourism, food, consumption, and investment and financial markets. Planning for pandemic influenza by business and industry is essential to minimize a pandemic's impact. During a pandemic, employers will play a key role in protecting employees' health and safety as well as in limiting the impact of a pandemic on the economy and society. Employers will likely experience increased employee absences, changes in patterns of commerce and interrupted supply and delivery schedules. Therefore, as with any catastrophe, having a contingency plan is essential.

The President announced the National Strategy for Pandemic Influenza in November of 2005, which outlines the Federal Government's approach to prepare for and respond to an influenza pandemic (http://www.pandemicflu.gov). To further assist in National pandemic preparedness efforts, the Department of Labor (DOL), in coordination with the Department of Health and Human Services (HHS), developed the Proposed Guidance on stockpiling of respirators and facemasks in occupational settings. The Proposed Guidance is designed to help private sector and government employers in making purchasing and stockpiling decisions regarding these protective devices, thereby allowing them to better protect their employees as well as lessen the impact of a pandemic. The document provides employers with recommendations and a methodology for calculating workplace stockpiling needs for respirators and facemasks in the event of an influenza pandemic.

The Proposed Guidance is supplementary to the existing DOL/HHS Guidance on Preparing Workplaces for an Influenza Pandemic that was released February 2007 (http://www.osha.gov/Publications/OSHA3327pandemic.pdf). The existing guidance includes information on how employers and employees can evaluate their risk of occupational exposure to pandemic influenza and explains steps that employers can take at each exposure risk level (very high, high, medium and low) to protect employees. The existing guidance document contains recommendations on the use of personal protective equipment (e.g. respirators and facemasks) at each risk level. More specifically, it recommends that employees at very high risk and high risk of exposure to pandemic influenza use respirators, while workers at medium risk of exposure use facemasks. Neither facemasks nor respirators are recommended for employees at lower risk of exposure to pandemic influenza.

The Proposed Guidance supplements the existing guidance by informing employers about various types of respirators, their advantages, disadvantages, and approximate costs. In addition, when employers determine that they have employees who are at medium or higher exposure risk, the Proposed Guidance provides them with methodology to determine how many respirators and/or facemasks they would have to stockpile based upon the assumption that an influenza pandemic is expected to come in two waves, each lasting up to 12 weeks, extending over an 18-month period.

OSHA encourages interested parties to comment on all aspects of the Proposed Guidance. The Agency is particularly interested in addressing the following questions:

1. Is the guidance clear and useful in helping employers determine if they should stockpile respirators and/or facemasks for their employees and the quantity of each device that should be stockpiled?

2. Are there any parts of the guidance that are not clear and if so, how can they be clarified?

3. Do the underlying assumptions used to estimate stockpiling needs, as well as cost estimates, for various types of facemasks and respirators, appear to be appropriate? If not, please explain why you feel they are inappropriate and suggest an alternative and your rationale for the alternative.

A. If you have already addressed stockpiling needs for your facility, could you please provide your underlying assumptions and methodology?

B. Are employers that should stockpile respirators and/or facemasks currently stockpiling these devices and if not, how can the guidance be modified to encourage them to begin stockpiling?

III. Authority and Signature

This notice was prepared under the direction of Edwin G. Foulke, Jr., Assistant Secretary of Labor for Occupational Safety and Health. It is issued under sections 4 and 8 of the Occupational Safety and Health Act of 1970 (29 U.S.C. 653, 657).

Issued at Washington, DC, this 5th day of May, 2008.
Edwin G. Foulke, Jr.,
Assistant Secretary of Labor for Occupational Safety and Health.

[FR Doc. E8-10312 Filed 5-8-08; 8:45 am]

BILLING CODE 4510-26-P